ENVIRONMENTAL PROTECTION AGENCY

[EPA-HQ-OPP-2013-0049; FRL-9912-14]

Notice of Receipt of a Request To Voluntarily Cancel Certain Pesticide Registrations

AGENCY: Environmental Protection Agency (EPA).

ACTION: Notice.

SUMMARY: In accordance with the Federal Insecticide, Fungicide, and Rodenticide Act (FIFRA), EPA is issuing a notice of receipt of a request by a registrant to voluntarily cancel certain pesticide registrations. EPA intends to issue a cancellation order granting this request at the close of the comment period for this announcement. If this request is granted, any sale, distribution, or use of products listed in this notice will be permitted after the registrations have been cancelled only if such sale, distribution, or use is consistent with the terms as described in the cancellation order.

DATES: Comments must be received on or before July 18, 2014.

ADDRESSES: Submit your comments, identified by docket identification (ID) number EPA-HQ-OPP-2013-0049, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW., Washington, DC 20460-0001.

Submit written withdrawal request by mail to: Pesticide Re-Evaluation Division (7508P), Office of Pesticide Programs, Environmental Protection Agency, 1200 Pennsylvania Ave. NW., Washington, DC 20460-0001. ATTN: Rusty Wasem.

• Hand Delivery: To make special arrangements for hand delivery or delivery of boxed information, please follow the instructions at http://www.epa.gov/dockets/contacts.html. Additional instructions on commenting or visiting the docket, along with more information about dockets generally, is available at http://www.epa.gov/dockets.

FOR FURTHER INFORMATION CONTACT: Rusty Wasem, Pesticide Re-Evaluation Division (7508P), Office of Pesticide Programs, Environmental Protection Agency, 1200 Pennsylvania Ave. NW., Washington, DC 20460-0001; telephone number: (703) 305-6979; email address: wasem.russell@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. What action is the Agency taking?

This notice announces receipt by the Agency of a request from Reckitt Benckiser LLC (Reckitt) to cancel 12 pesticide products registered under FIFRA section 3. These registrations are listed in sequence by registration number in Table 1 of this unit. The request for voluntary cancellation was conditioned on January 1, 2015 being the earliest effective date of cancellation, the Agency allowing certain sale and distribution of existing stocks of canceled product, and the Agency approving an alternative inert ingredient in the products prior to cancellation. EPA agreed to these conditions contingent upon:

1. Reckitt limiting further production of the 12 pesticide products, in the period prior to the effective date of cancellation, to filling orders from existing customers in accordance with shelf-set agreements and other contracts already in effect as of May 29, 2014;

2. Quantity limits on Reckitt's production of the 12 pesticide products; and

3. Reckitt submitting periodic reports on its production, sales and inventory of the 12 pesticide products.

At the end of the 30-day comment period, EPA intends to issue an order in the Federal Register canceling all of the affected registrations in a manner consistent with the conditional nature of the request for cancellation. Reckitt will be permitted to sell and distribute existing stocks to its existing customers until March 31, 2015. During this time period, Reckitt will also be permitted to ship product for the purpose of returning material back to Reckitt or for the purpose of disposal. Reckitt will be permitted to sell and distribute existing stocks after March 31, 2015 only for the limited purposes of returning material back to Reckitt or for disposal. The sale and distribution of existing stocks by persons other than Reckitt (e.g., distributors, retailers) will be permitted until such stocks are exhausted. Users will be allowed to use existing stocks until such stocks are exhausted, provided that such use is consistent with the terms of the previously approved labeling on, or that accompanied, the canceled product.

Table 1—Registrations With Pending Requests for Cancellation
Registration No. | Product name | Chemical name
3282-3 | D-Con Concentrate Kills Rats & Mice | Warfarin.
3282-4 | D-Con Ready Mixed Kills Rats & Mice | Warfarin.
3282-9 | D-Con Mouse Prufe Kills Mice | Warfarin.
3282-15 | D-Con Pellets Kills Rats & Mice | Warfarin.
3282-65 | D-Con Mouse Prufe II | Brodifacoum.
3282-66 | D-Con Pellets Generation II | Brodifacoum.
3282-74 | D-Con Bait Pellets II | Brodifacoum.
3282-81 | D-Con Ready Mixed Generation II | Brodifacoum.
3282-85 | D-Con Mouse-Prufe III | Difethialone.
3282-86 | D-Con Bait Pellets III | Difethialone.
3282-87 | D-Con II Ready Mix Baitbits III | Difethialone.
3282-88 | D-Con Bait Packs III | Difethialone.

Table 2 of this unit includes the address of Reckitt.

Table 2—Registrant Requesting Voluntary Cancellation
EPA company No. | Company name and address
3282 | Reckitt Benckiser LLC, 399 Interpace Parkway, Parsippany, NJ 07054.

III. What is the Agency's authority for taking this action?

Section 6(f)(1) of FIFRA provides that a registrant of a pesticide product may at any time request that any of its pesticide registrations be canceled. FIFRA further provides that, before acting on the request, EPA must publish a notice of receipt of any such request in the Federal Register.

Section 6(f)(1)(B) of FIFRA requires that before acting on a request for voluntary cancellation, EPA must provide a 30-day public comment period on the request for voluntary cancellation or use termination. In addition, FIFRA section 6(f)(1)(C) requires that EPA provide a 180-day comment period on a request for voluntary cancellation or termination of any minor agricultural use before granting the request, unless:

1. The registrants request a waiver of the comment period, or

2. The EPA Administrator determines that continued use of the pesticide would pose an unreasonable adverse effect on the environment.

The products listed in Table 1 of Unit II. do not represent minor agricultural uses. Therefore, the requests are not eligible for a 180-day comment period. Accordingly, EPA will provide a 30-day comment period on the requests.

IV. Provisions for Disposition of Existing Stocks

Existing stocks are those stocks of canceled pesticide products that are in the United States and that were appropriately packaged, labeled, and released for shipment prior to the effective date of cancellation of the underlying registration. It is EPA's intention to issue a cancellation order treating existing stocks after cancellation of the registrations identified in Table 1 of Unit II. as follows:

1. Cancellation of the registrations will not become effective before January 1, 2015.

2. Reckitt will be permitted to sell and distribute existing stocks to its existing customers until March 31, 2015. During this time period, Reckitt will also be permitted to ship product for the purpose of returning material back to Reckitt or for the purpose of disposal.

3. Reckitt will be permitted to sell and distribute existing stocks after March 31, 2015 only for the limited purposes of returning material back to Reckitt or for disposal.

4. The sale and distribution of existing stocks by persons other than Reckitt (e.g., distributors, retailers) will be permitted until such stocks are exhausted. Users will be allowed to use existing stocks until such stocks are exhausted, provided that such use is consistent with the terms of the previously approved labeling on, or that accompanied, the canceled product.

List of Subjects

Environmental protection, Pesticides and pests.

Dated: June 11, 2014.
Richard P. Keigwin, Jr.,
Director, Pesticide Re-Evaluation Division, Office of Pesticide Programs.

[FR Doc. 2014-14250 Filed 6-17-14; 8:45 am]

BILLING CODE 6560-50-P